DEPARTMENT OF TRANSPORTATION

Federal Aviation Administration

14 CFR Part 39

[Docket No. FAA-2005-20009; Directorate Identifier 2003-NM-220-AD; Amendment 39-13937; AD 94-01-10 R2]

RIN 2120-AA64

Airworthiness Directives; Boeing Model 757-200 and -200PF Series Airplanes

AGENCY: Federal Aviation Administration (FAA), DOT.

ACTION: Final rule; request for comments.

SUMMARY: The FAA is revising an existing airworthiness directive (AD) for certain Boeing Model 757-200 and -200PF series airplanes. That AD currently requires inspections, adjustments, and functional checks of the engine thrust reverser system; and modification of the engine thrust reverser directional control valve. That AD also requires installation of an additional thrust reverser locking feature and periodic functional tests of the locking feature following installation. This new AD retains the requirements of the existing AD, but removes certain tests and inspections for certain airplanes. This AD is prompted by a determination of an error in the existing AD. We are issuing this AD to prevent deployment of a thrust reverser in flight and subsequent reduced controllability of the airplane.

DATES: Effective January 28, 2005.

The incorporation by reference of certain publications, as listed in the regulations, was approved by the Director of the Federal Register as of March 3, 1994 (59 FR 4558, February 1, 1994).

The incorporation by reference of certain other publications, as listed in the regulations, was approved previously by the Director of the Federal Register as of September 16, 1991 (56 FR 46725, September 16, 1991).

We must receive comments on this AD by March 14, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this AD, contact Boeing Commercial Airplanes, P.O. Box 3707, Seattle, Washington 98124-2207. You can examine this information at the National Archives and Records Administration (NARA). For information on the availability of this material at NARA, call (202) 741-6030, or go to http://www.archives.gov/federal_register/code_of_federal_regulations/ibr_locations.html.

You can examine the contents of this AD docket on the Internet at http://dms.dot.gov, or in person at the Docket Management Facility, U.S. Department of Transportation, 400 Seventh Street SW., room PL-401, on the plaza level of the Nassif Building, Washington, DC. This docket number is FAA-2005-20009; the directorate identifier for this docket is 2003-NM-220-AD.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: Thomas S. Thorson, Aerospace Engineer, Propulsion Branch, ANM-140S, FAA, Seattle Aircraft Certification Office, 1601 Lind Avenue, SW., Renton, Washington 98055-4056; telephone (425) 917-6508; fax (425) 917-6590.

SUPPLEMENTARY INFORMATION: On August 7, 2003, we issued AD 94-01-10 R1, amendment 39-13247 (68 FR 48546, August 14, 2003). That AD applies to certain Boeing Model 757-200 and -200PF series airplanes. That AD requires inspections, adjustments, and functional checks of the engine thrust reverser system; and modification of the engine thrust reverser directional control valve. That AD also requires installation of an additional thrust reverser locking feature and periodic functional tests of the locking feature following installation. That AD was prompted by a determination that the applicability of AD 94-01-10, amendment 39-8792 (59 FR 4558, February 1, 1994), should be limited to Boeing Model 757-200 and -200PF series airplanes equipped with Pratt and Whitney PW2000 series engines. The actions specified in the AD are intended to prevent deployment of a thrust reverser in flight and subsequent reduced controllability of the airplane.

Actions Since AD Was Issued

We have since determined that paragraph (c) of AD 94-01-10 R1 should be revised to apply only to airplanes with line numbers 441 and lower. That AD applies to Boeing Model 757 series airplanes with Pratt & Whitney PW2000 series engines. The airplanes in that AD are divided into two groups:

• Airplanes without a thrust reverser sync lock (airplane line numbers 1 through 441 inclusive); and

• Airplanes with changes to the sync lock installation done in production (airplane line numbers 442 and subsequent).

When we issued that AD, we made changes as a result of comments we received. One of the changes was to change paragraph (d) to apply only to airplanes without a thrust reverser sync lock installed in production. The action in paragraph (d) (installing the thrust reverser sync lock) is terminating action for paragraphs (a) through (c). We intended for the repetitive tests and inspections in paragraph (c) to apply only to airplanes without a thrust reverser sync lock installed during production. Unlike paragraph (d), however, paragraph (c) of that AD incorrectly applies to all line numbers of airplanes, including those with changes to the sync lock installation done in production.

Therefore, we have changed paragraph (c) of this final rule to clarify that the paragraph applies to all airplanes affected by paragraph (d). For the same reasons, we have changed paragraph (e) to clarify that its requirements apply to all airplanes. We have also changed the paragraph identifiers in this final rule to the new identifiers that are discussed under “Changes to the Existing AD.”

FAA's Determination and Requirements of This AD

The unsafe condition described previously is likely to exist or develop on other airplanes of the same type design that may be registered in the U.S. at some time in the future. For this reason, we are issuing this AD to revise AD 94-01-10 R1. This new AD retains the requirements of AD 94-01-10 R1 but removes certain test and inspection requirements for certain airplanes.

Changes to the Existing AD

This AD retains certain requirements of AD 94-01-10 R1. Since that AD was issued, the AD format has been revised, and certain paragraphs have been rearranged. As a result, the corresponding paragraph identifiers have changed in this AD, as listed in the following table:

Revised Paragraph Identifiers
Requirement in AD 94-01-10 R1 | Corresponding requirement in this new AD
Paragraph (a) | Paragraph (f).
Paragraph (b) | Paragraph (g).
Paragraph (c) | Paragraph (h).
Paragraph (d) | Paragraph (i).
Paragraph (e) | Paragraph (j).
Paragraph (f) | Paragraph (k).
Paragraph (g) | Paragraph (l).

After AD 94-01-10 R1 was issued, we reviewed the figures we have used over the past several years to calculate AD costs to operators. To account for various inflationary costs in the airline industry, we find it necessary to increase the labor rate used in these calculations from $60 per work hour to $65 per work hour. The cost impact information, below, reflects this increase in the specified hourly labor rate.

Costs of Compliance

The following table provides the estimated costs for U.S. operators to comply with this AD for any affected airplane that might be imported and placed on the U.S. Register in the future.

Estimated Costs
Action | Work hours | Average hourly labor rate | Parts cost | Cost per airplane | Number of U.S.- registered airplanes | Fleet cost
Modification | 624 | $65 | Provided at no cost to operators | $40,560 | 270 | $10,951,200.
Functional test | 1 | 65 | None required | $65, per test | 270 | $17,550, per test.

The airplanes that are added to the applicability of this new AD are not on the U.S. Register and are currently operated by non-U.S. operators under foreign registry; therefore, they are not directly affected by this AD. However, we consider this AD necessary to ensure that the unsafe condition is addressed if a newly affected airplane is imported and placed on the U.S. Register in the future; in that case, the costs identified in the Estimated Costs table above would apply.

FAA's Determination of the Effective Date

The newly added airplanes affected by this AD are currently not on the U.S. Register. Therefore, providing notice and opportunity for public comment is unnecessary before this AD is issued, and this AD may be made effective in less than 30 days after it is published in the Federal Register.

Comments Invited

Although this is a final rule that was not preceded by notice and an opportunity for public comment, we invite you to submit any relevant written data, views, or arguments regarding this AD. Send your comments to an address listed under ADDRESSES. Include “Docket No. FAA-2005-20009; Directorate Identifier 2003-NM-220-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13247 (68 FR 48546, August 14, 2003) and adding the following new AD:

94-01-10 R2 Boeing: Amendment 39-13937. Docket No. FAA-2005-20009; Directorate Identifier 2003-NM-220-AD.

Effective Date

(a) This airworthiness directive (AD) becomes effective January 28, 2005.

Affected ADs

(b) This AD revises AD 94-01-10 R1, amendment 39-13247 (68 FR 48546, August 14, 2003).

Applicability

(c) This AD applies to Boeing Model 757-200 and -200PF series airplanes, certificated in any category, equipped with Pratt and Whitney PW2000 series engines.

Unsafe Condition

(d) This AD was prompted by a determination of an error in the existing AD. The Federal Aviation Administration is issuing this AD to prevent deployment of a thrust reverser in flight and subsequent reduced controllability of the airplane.

Compliance

(e) You are responsible for having the actions required by this AD performed within the compliance times specified, unless the actions have already been done.

Inspections/Adjustments/Functional Checks/Modification

(f) For airplanes having line numbers prior to 442: Within 14 days after September 16, 1991 (the effective date of AD 91-20-09, amendment 39-8043), accomplish either paragraph (f)(1) or (f)(2) of this AD.

(1) Accomplish both paragraphs (f)(1)(i) and (f)(1)(ii) of this AD:

(i) Inspect the thrust reverser directional control valve (DCV) assemblies of both engines to determine the solenoid-driven pilot valve's part number, in accordance with Boeing Alert Service Bulletin 757-78A0027, dated September 9, 1991.

(A) If any DCV has a suspect pilot valve as specified in the service bulletin, prior to further flight, replace the DCV with a DCV that has a part number of a non-suspect solenoid-driven pilot valve, in accordance with the service bulletin.

(B) If a DCV has a non-suspect solenoid-driven pilot valve as specified in the service bulletin, that pilot valve does not need to be replaced.

(ii) Perform all tests and inspections of the engine thrust reverser control and indication system on both engines in accordance with Boeing Service Bulletin 757-78-0025, dated September 9, 1991. Prior to further flight, correct any discrepancy found in accordance with the service bulletin.

(2) Accomplish paragraph (f)(1) of this AD on one engine's thrust reverser and deactivate the other engine's thrust reverser, in accordance with section 78-31-1 of Boeing Document D630N002, “Boeing 757 Dispatch Deviation Guide,” Revision 8, dated January 15, 1991.

(g) For airplanes having line numbers prior to 442: Within 24 days after September 16, 1991, the requirements of paragraph (f)(1) of this AD must be accomplished on both engines' thrust reverser systems.

(h) For airplanes having line numbers prior to 442: Repeat the tests and inspections specified in paragraph (f)(1)(ii) of this AD at intervals not to exceed 3,000 flight hours, and before further flight following any maintenance that disturbs the thrust reverser control system. Correct any discrepancy before further flight in accordance with Boeing Service Bulletin 757-78-0025, dated September 9, 1991.

Installation/Functional Test

(i) For airplanes having line numbers prior to 442: Within 5 years after March 3, 1994 (the effective date of AD 94-01-10, amendment 39-8792), install an additional thrust reverser system locking feature (sync lock installation), in accordance with Boeing Service Bulletin 757-78-0028, Revision 1, dated October 29, 1992; or Revision 2, dated January 14, 1993.

(j) For all airplanes: Within 1,000 hours' time-in-service after installing the sync lock required by paragraph (i) of this AD (either in production or by retrofit), or within 1,000 hours' time-in-service after March 3, 1994, whichever occurs later; and thereafter at intervals not to exceed 1,000 hours' time-in-service: Perform functional tests of the sync lock in accordance with the “Thrust Reverser Sync Lock Integrity Test” procedures specified below. If any discrepancy is found during any test, correct it before further flight in accordance with a method approved by the Manager, Seattle Aircraft Certification Office (ACO), FAA; the corrective action in the Boeing 757 Maintenance Manual is one approved method.

Thrust Reverser Sync Lock Integrity Test

1. General

A. Use this procedure to test the integrity of the thrust reverser sync locks.

2. Thrust Reverser Sync Lock Test

A. Prepare for the Thrust Reverser Sync Lock Test.

(1) Open the auto speedbrake circuit breaker on the overhead circuit breaker panel, P11.

(2) Do the steps that follow to supply power to the thrust reverser system:

(a) Make sure the thrust levers are in the idle position.

Caution: Do not extend the thrust reverser while the core cowl panels are open. Damage to the thrust reverser and core cowl panels can occur.

(b) Make sure the thrust reverser halves are closed.

(c) Make sure the core cowl panels are closed.

(d) Put the EEC Maint Power switch or the EEC Power L and EEC Power R switches to the Altn position.

(e) For the left engine:

(1) Put the EEC Maint Channel Sel L switch to the Auto position.

(2) Put the L Eng fire switch to the Norm position.

(f) For the right engine:

(1) Put the EEC Maint Channel Sel R switch to the Auto position.

(2) Put the R Eng fire switch to the Norm position.

(g) Make sure the EICAS circuit breakers (6 locations) are closed.

Warning: The Thrust Reverser will automatically retract if the electrical power to the EEC/Thrust Reverser Control System is turned off or if the EEC Maint Power switch is moved to the Norm position. The accidental operation of the Thrust Reverser can cause injury to persons or damage to equipment can occur.

(h) Make sure these circuit breakers on the main power distribution panel, P6, are closed:

(1) Fuel Cond Cont L

(2) Fuel Cond Cont R

(3) T/L Interlock L

(4) T/L Interlock R

(5) Left T/R Sync Lock

(6) Right T/R Sync Lock

(7) L Eng Electronic Engine Control Altn Pwr (if installed)

(8) R Eng Electronic Engine Control Altn Pwr (if installed)

(i) Make sure these circuit breakers on the overhead circuit breaker panel, P11, are closed:

(1) Air/Gnd Sys 1

(2) Air/Gnd Sys 2

(3) Landing Gear Pos Sys 1

(4) Landing Gear Pos Sys 2

(j) For the left engine, make sure these circuit breakers on the P11 panel are closed:

(1) Left Engine PDIU

(2) Left Engine Thrust Reverser Cont/Scav Press

(3) Left Engine Electronic Engine Control Altn Pwr (if installed)

(4) Left Engine Thrust Reverser PRI Cont

(5) Left Engine Thrust Reverser Sec Cont

(k) For the right engine, make sure these circuit breakers on the P11 panel are closed:

(1) Right Engine PDIU

(2) Right Engine Thrust Reverser Cont/Scav Press

(3) Right Engine Electronic Engine Control Altn Pwr (if installed)

(4) Right Engine Thrust Reverser PRI Cont

(5) Right Engine Thrust Reverser Sec Cont

(l) Supply electrical power.

(m) Remove the pressure from the left (right) hydraulic system.

B. Do the Thrust Reverser Sync Lock Test.

(1) Move and hold the manual unlock lever on the center actuator on both thrust reverser sleeves to the unlock position.

(2) Make sure the thrust reverser sleeves did not move.

(3) Move the left (right) reverser thrust lever up and rearward to the idle detent position.

(4) Make sure both thrust reverser sleeves move aft (approximately 0.15 to 0.25 inch).

(5) Release the manual unlock lever on the center actuators.

Warning: Make sure all persons and equipment are clear of the area around the Thrust Reverser. When you apply hydraulic pressure the Thrust Reverser will extend and can cause injuries to persons or damage to equipment.

(6) Pressurize the left (right) hydraulic system.

(7) Make sure the thrust reverser extends.

(8) Move the left (right) reverser thrust lever to the fully forward and down position to retract the thrust reverser.

C. Put the Airplane Back to its Usual Condition.

(1) Remove hydraulic pressure.

(2) Close the left and right fan cowls.

(3) Close the Auto Speedbrake circuit breaker on the P11 panel.

(4) Remove electrical power if it is not necessary.

(5) Return the EEC Maint Power switch or the EEC Power L and EEC Power R switches to the Normal position.

D. Repeat the Thrust Reverser Sync Lock Test on the other engine.”

(k) Installation of the sync lock, as required by paragraph (i) of this AD, constitutes terminating action for the requirements of paragraphs (f) through (h) of this AD.

Alternative Methods of Compliance (AMOCs)

(l)(1) The Manager, Seattle Aircraft Certification Office (ACO), FAA, has the authority to approve AMOCs for this AD, if requested in accordance with the procedures found in 14 CFR 39.19.

(2) We approve the following for the corresponding requirements of this AD: AMOCs approved previously in accordance with AD 91-20-09, amendment 39-8043; AD 94-01-10, amendment 39-8792; and AD 94-01-10 R1, amendment 39-13247.

Material Incorporated by Reference

(m) Except as otherwise specified in this AD, the actions must be done in accordance with Boeing Alert Service Bulletin 757-78A0027, dated September 9, 1991; Boeing Service Bulletin 757-78-0025, dated September 9, 1991; Boeing Document D630N002, “Boeing 757 Dispatch Deviation Guide,” Revision 8, dated January 15, 1991; and Boeing Service Bulletin 757-78-0028, Revision 1, dated October 29, 1992, or Boeing Service Bulletin 757-78-0028, Revision 2, dated January 14, 1993; as applicable.

(1) The incorporation by reference of Boeing Service Bulletin 757-78-0028, Revision 1, dated October 29, 1992; and Boeing Service Bulletin 757-78-0028, Revision 2, dated January 14, 1993; was approved previously by the Director of the Federal Register as of March 3, 1994 (59 FR 4558, February 1, 1994).

(2) The incorporation by reference of Boeing Alert Service Bulletin 757-78A0027, dated September 9, 1991; Boeing Service Bulletin 757-78-0025, dated September 9, 1991; and Boeing Document D630N002, “Boeing 757 Dispatch Deviation Guide,” Revision 8, dated January 15, 1991; was approved previously by the Director of the Federal Register as of September 16, 1991 (56 FR 46725, September 16, 1991). (The document number of Boeing Alert Service Bulletin 757-78A0027, dated September 9, 1991, was cited erroneously in the September 16, 1991, issue of the Federal Register as “757-78H0027.” The document number of Boeing Service Bulletin 757-78-0025, dated September 9, 1991, was also cited erroneously in the September 16, 1991, issue of the Federal Register as “757-0025.”)

(3) Contact Boeing Commercial Airplanes, PO Box 3707, Seattle, Washington 98124-2207, for copies of the service documents. Copies may be inspected at the FAA, Transport Airplane Directorate, 1601 Lind Avenue, SW., Renton, Washington; or at the National Archives and Records Administration (NARA). For information on the availability of this material at NARA, call (202) 741-6030, or go to http://www.archives.gov/federal_register/code_of_federal_regulations/ibr_locations.html.

Issued in Renton, Washington, on December 29, 2004.
Kevin M. Mullin,
Acting Manager, Transport Airplane Directorate, Aircraft Certification Service.

[FR Doc. 05-536 Filed 1-12-05; 8:45 am]

BILLING CODE 4910-13-P